NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION:

Title of Collection: Survey of Colleges and Universities Providing Graduate Degrees and Specializations in Evaluation and Providers of Professional Development Offerings.

OMB Control No.: 3145-NEW.

Expiration Date of Approval: Not applicable.

Abstract: This document has been prepared to support the clearance of data collection instruments to be used in the Surveys of Colleges and Universities Providing Graduate Degrees and Specializations in Evaluation, and Providers of Evaluation Professional Development Offerings. A major problem that NSF faces is the lack of qualified evaluators to serve as resources to NSF-funded projects. Therefore, the Evaluation Program has set as part of its mission the building of capacity in the field of evaluation. NSF's efforts will serve both to guarantee that there will be adequate numbers of trained evaluators to meet NSF's needs and to aid in creating a solid knowledge base for this relatively new professional field. Fundamental to both of these purposes is the collection of data on current capacity in the evaluation field to conduct training. This includes both formal education that leads to the granting of degrees, and informal education that fosters the acquisition of specific knowledge and skills through short courses, workshops, or Internet offerings. The approach encompasses two surveys. One is of university and college-based formal evaluation training programs leading to a major or minor course of graduate degree studies; the other is of professional training activities in evaluation that are regularly provided and may result in continuing education certificates.

Expected Respondents: The expected respondents are twofold. Those responding to the college and university degree programs will be those institutions that offer formal degree or specialization programs in the field of evaluation. Those receiving the second type of survey will be institutions, companies and organizations that provide regular, short-term, intensive training programs, such as institutes and short courses for both current and novice evaluators.

Burden On The Public: The total elements for these two collections are 32 burden hours for a maximum of 120 participants annually, assuming an 80-100% response rate. The average annual reporting burden is under 20 minutes per respondent. The burden on the public is negligible, as the survey is limited to colleges, universities and other entities that provide degrees, areas of specialization, and professional development in the field of evaluation.

Dated: February 5, 2002.
Suzanne H. Plimpton,
Reports Clearance Officer, National Science Foundation.

[FR Doc. 02-3230 Filed 2-8-02; 8:45 am]

BILLING CODE 7555-01-M